FEDERAL MINE SAFETY AND HEALTH REVIEW COMMISSION

Sunshine Act Notice

May 8, 2015

Time and Date: 11:00 a.m., Thursday, May 21, 2015.

Place: The Richard V. Backley Hearing Room, Room 511N, 1331 Pennsylvania Avenue NW., Washington, DC 20004 (enter from F Street entrance).

Status: Open.

Matters to be Considered: The Commission will hear oral argument in the matter Secretary of Labor v. Oak Grove Resources, LLC, Docket Nos. SE 2009-261-R, et al. (Issues include whether the Judge erred by ruling that a safeguard notice prohibiting the pushing of cars by locomotives was violated.)

Any person attending this oral argument who requires special accessibility features and/or auxiliary aids, such as sign language interpreters, must inform the Commission in advance of those needs. Subject to 29 CFR 2706.150(a)(3) and 2706.160(d).

Contact Person for More Info: Emogene Johnson (202) 434-9935/(202) 708-9300 for TDD Relay/1-800-877-8339 for toll free.

Sarah L. Stewart,
Deputy General Counsel.

[FR Doc. 2015-11520 Filed 5-8-15; 11:15 am]

BILLING CODE 6735-01-P